OFFICE OF PERSONNEL MANAGEMENT

Excepted Service

AGENCY: Office of Personnel Management.

ACTION: Notice.

SUMMARY: This gives notice of positions placed or revoked under Schedule C in the excepted service, as required by Civil Service Rule VI, Exceptions from the Competitive Service.

FOR FURTHER INFORMATION CONTACT: Pam Shivery, Director, Washington Service Center, Employment Service (202) 606-1015.

SUPPLEMENTARY INFORMATION: Individual authorities established under Schedule C between March 1, 2002, and March 31, 2002, appear in the listing below. Future notices will be published on the fourth Tuesday of each month, or as soon as possible thereafter. A consolidated listing of all authorities as of June 30 will also be published.

Schedule C

The following Schedule C authorities were established during March 2002:

Council on Environmental Quality

Environmental Research Assistant to the Chief of Staff. Effective March 4, 2002.

Department of Agriculture

Director of Advance to the Deputy Chief of Staff, Communications. Effective March 7, 2002.

Staff Assistant to the Administrator, Foreign Agriculture Service. Effective March 12, 2002.

Director, Legislative and Public Affairs Staff to the Deputy Under Secretary, Rural Development. Effective March 12, 2002.

Confidential Assistant to the Administrator, Foreign Agricultural Service. Effective March 12, 2002.

Confidential Assistant to the Administrator, Rural Business and Cooperative Service. Effective March 19, 2002.

Director of Speech Writing to the Director of Communications. Effective March 19, 2002.

Confidential Assistant to the Assistant Secretary for Congressional Relations. Effective March 21, 2002.

Confidential Assistant to the Director, Planning and Coordination. Effective March 21, 2002.

Special Assistant to the Administrator, Risk Management Agency. Effective March 28, 2002.

Department of the Air Force (DOD)

Special Assistant for Community Relations to the Special Assistant for Policy and Planning. Effective March 6, 2002.

Department of Commerce

Special Assistant to the Executive Director, Office of Export Assistance and Business. Effective March 8, 2002.

Senior Policy Advisor to the Under Secretary for Oceans and Atmosphere. Effective March 8, 2002.

Press Secretary to the Director of Public Affairs. Effective March 19, 2002.

Senior Counsel to the General Counsel. Effective March 19, 2002.

Director of Communications to the Assistant Secretary for Trade Development, International Trade Administration. Effective March 22, 2002.

Special Assistant to the Chief Financial Officer and Assistant Secretary for Administration. Effective March 22, 2002.

Congressional Affairs Specialist to the Director, Office of Legislative Affairs, National Oceanic and Atmospheric Administration. Effective March 22, 2002.

Policy Advisor to the Chief of Staff. Effective March 22, 2002.

Public Affairs Specialist to the Deputy Director of Public Affairs for Strategy. Effective March 22, 2002.

Deputy Communications Director to the Director of Communications, International Trade Administration. Effective March 25, 2002.

Deputy Director to the Director, Office of Business Liaison. Effective March 28, 2002.

Department of Defense

Confidential Assistant to the Executive Secretary, Senior Executive Council. Effective March 4, 2002.

Special Assistant (Communications) to the Principal Deputy Assistant Secretary of Defense (Legislative Affairs). Effective March 5, 2002.

Public Affairs Specialist to the Assistant Secretary of Defense (Public Affairs). Effective March 12, 2002.

Personal and Confidential Assistant to the Assistant to the Secretary of Defense for Nuclear and Chemical and Biological Defense Programs. Effective March 13, 2002.

Confidential Assistant to the Assistant Secretary of Defense (Force Management Policy). Effective March 20, 2002.

Public Affairs Specialist to the Assistant Secretary of Defense (Public Affairs). Effective March 21, 2002.

Personal and Confidential Assistant to the Under Secretary of Defense (Comptroller). Effective March 21, 2002.

Special Assistant to the Principal Deputy Assistant Secretary of Defense (Legislative Affairs). Effective March 27, 2002.

Personal and Confidential Assistant to the Assistant Secretary of Defense for International Security Affairs. Effective March 27, 2002.

Special Assistant to the Director, Defense Research and Engineering. Effective March 27, 2002.

Special Assistant to the Principal Deputy Under Secretary of Defense, Office of the Comptroller. Effective March 29, 2002.

Public Affairs Specialist to the Deputy Assistant Secretary of Defense for Public Affairs. Effective March 29, 2002.

Department of Education

Special Assistant (Executive Assistant) to the Assistant Secretary, Office of Intergovernmental and Interagency Affairs. Effective March 5, 2002.

Confidential Assistant to the Assistant Secretary for Vocational and Adult Education. Effective March 5, 2002.

Confidential Assistant to the Chief of Staff. Effective March 6, 2002.

Special Assistant to the Assistant Secretary for Vocational and Adult Education. Effective March 6, 2002.

Secretary's Regional Representative, Region X to the Deputy Assistant Secretary for Regional Services. Effective March 15, 2002.

Special Assistant to the Assistant Secretary for Postsecondary Education. Effective March 15, 2002.

Deputy Secretary's Regional Representative, Region I to the Deputy Assistant Secretary for Regional Services. Effective March 19, 2002.

Special Assistant to the Chief of Staff. Effective March 19, 2002.

Confidential Assistant to the Deputy Assistant Secretary, Office of Special Education and Rehabilitative Services. Effective March 26, 2002.

Special Assistant to the Deputy Secretary. Effective March 27, 2002.

Department of Energy

Policy Advisor to the Director, Office of Worker and Community Transition. Effective March 1, 2002.

Special Assistant to the Secretary of Energy. Effective March 1, 2002.

Special Assistant to the Assistant Secretary for Policy and International Affairs. Effective March 5, 2002.

Special Assistant to the Assistant Secretary for Energy and Renewable Energy. Effective March 5, 2002.

Senior Advisor to the Executive Director for the Secretary of Energy Advisory Board. Effective March 11, 2002.

Chief of Staff to the Director, Office of Economic Impact and Diversity. Effective March 11, 2002.

Deputy Assistant Secretary, Senate Liaison to the Assistant Secretary for Congressional and Intergovernmental Affairs. Effective March 27, 2002.

Special Assistant for Intergovernmental Affairs to the Assistant Secretary for Environmental Management. Effective March 27, 2002.

Senior Advisor to the Assistant Secretary for Congressional and Intergovernmental Affairs. Effective March 29, 2002.

Advance and Trip Coordinator to the Director, Office of Scheduling and Advance. Effective March 29, 2002.

Department of Health and Human Services

Deputy Director of Intergovernmental Affairs (Operations) to the Director, Office of Intergovernmental Affairs. Effective March 20, 2002.

Deputy Director to the Director of the Center for Faith-Based and Community Initiatives. Effective March 26, 2002.

Secretary's Regional Representative to the Director of Intergovernmental Affairs. Effective March 27, 2002.

Special Assistant to the Executive Secretary, Office of the Secretary. Effective March 27, 2002.

Confidential Assistant (Advance) to the Director of Scheduling. Effective March 27, 2002.

Secretary's Regional Representative for Intergovernmental Affairs to the Director of Intergovernmental Affairs. Effective March 28, 2002.

Department of Housing and Urban Development

Secretary's Representative to the Deputy Secretary. Effective March 8, 2002.

Staff Assistant to the Assistant Secretary for Administration. Effective March 19, 2002.

Staff Assistant to the Director of Executive Scheduling. Effective March 19, 2002.

Special Assistant to the Chief Financial Officer. Effective March 19, 2002.

Staff Assistant to the Director, Center for Faith Based and Community Initiatives. Effective March 20, 2002.

Secretary's Representative to the Deputy Secretary. Effective March 27, 2002.

Principal Director of Executive Secretariat to the Assistant Secretary for Administration. Effective March 27, 2002.

Deputy Director to the Director of Faith Based and Community Initiatives. Effective March 27, 2002.

Department of Justice

Special Assistant to the Director, Violence Against Women Office, Office of Justice Programs. Effective March 1, 2002.

Special Assistant to the Deputy Attorney General. Effective March 1, 2002.

Associate Director and Counsel, Faith Based Task Force to the Principal Deputy Assistant Attorney General, Office of Justice Programs. Effective March 1, 2002.

Special Assistant to the Director, Office of Domestic Preparedness, Office of Justice Programs. Effective March 1, 2002. Secretary (OA) to the United States Attorney, District of Massachusetts. Effective March 1, 2002.

Secretary (Office Automation) to the United States Attorney General's Office, District of Wyoming. Effective March 1, 2002.

Deputy Director to the Director, Office of Public Affairs. Effective March 11, 2002.

Counsel to the Associate Attorney General. Effective March 11, 2002.

Secretary (Office Automation) to the United States Attorney, Eastern District of Pennsylvania. Effective March 12, 2002.

Secretary (OA) to the United States Attorney, District of Delaware. Effective March 12, 2002.

Secretary (OA) to the Assistant United States Attorney, Western District of Oklahoma. Effective March 12, 2002.

Senior Counsel for Voting Reform to the Assistant Attorney General, Civil Rights Division. Effective March 12, 2002.

Special Assistant to the Chairman, Foreign Claims Settlement Commission. Effective March 13, 2002.

Secretary (OA) to the United States Attorney, District of New Hampshire. Effective March 25, 2002.

Public Affairs Specialist to the Director, Office of Public Affairs. Effective March 27, 2002.

Department of Labor

Staff Assistant to the Secretary of Labor. Effective March 4, 2002.

Senior Legislative Officer to the Assistant Secretary for Congressional and Intergovernmental Affairs. Effective March 7, 2002.

Special Assistant to the Assistant Secretary for Public Affairs. Effective March 7, 2002.

Special Assistant to the Director of Scheduling and Advance. Effective March 12, 2002.

Special Assistant to the Assistant Secretary for Administration and Management. Effective March 12, 2002.

Special Assistant to the Assistant Secretary, Pension and Welfare Benefits. Effective March 12, 2002.

Special Assistant to the Director of the Women's Bureau. Effective March 13, 2002.

Special Assistant to the Assistant Secretary for Occupational Safety and Health. Effective March 13, 2002.

Counselor to the Deputy Secretary. Effective March 13, 2002.

Research Assistant to the Assistant Secretary for Congressional and Intergovernmental Affairs. Effective March 15, 2002.

Special Assistant to the Assistant Secretary, Disability Employment Policy. Effective March 20, 2002.

Attorney-Advisor (Labor) to the Solicitor of Labor. Effective March 26, 2002.

Secretary's Representative, San Francisco, CA to the Assistant Secretary for Congressional and Intergovernmental Affairs. Effective March 26, 2002.

Special Assistant to the Director, Women's Bureau. Effective March 27, 2002. Special Assistant to the Chief Financial Officer. Effective March 27, 2002.

Special Assistant to the Assistant Secretary for Occupational Safety and Health. Effective March 27, 2002.

Department of State

Special Assistant to the Assistant Secretary, Bureau of East Asian and Pacific Affairs. Effective March 7, 2002.

Special Assistant to the Deputy Secretary of State. Effective March 7, 2002.

Supervisory Foreign Affairs Officer to the Deputy Office Director, Office to Monitor and Combat Traffic. Effective March 8, 2002.

Staff Assistant to the Assistant Secretary, Bureau of Educational and Cultural Affairs. Effective March 11, 2002.

Foreign Affairs Officer to the Director, Office to Monitor and Combat Trafficking in Persons. Effective March 15, 2002.

Program Officer to the Director, Office of International Visitors, Bureau of Educational and Cultural Affairs. Effective March 22, 2002.

Staff Assistant to the Under Secretary for Arms Control and International Security. Effective March 27, 2002.

Legislative Analyst to the Senior Legislative Analyst. Effective March 27, 2002.

Foreign Affairs Research Analyst to the Assistant Secretary for Intelligence and Research. Effective March 29, 2002.

Public Affairs Specialist to the Assistant Secretary, Bureau of Educational and Cultural Affairs. Effective March 29, 2002.

Public Affairs Specialist to the Deputy Assistant Secretary, Bureau of Public Affairs. Effective March 29, 2002.

Supervisory Management Analyst to the Deputy Assistant Secretary for Logistics Management. Effective March 29, 2002.

Department of Transportation

Special Assistant to the Director, Office of Policy, Federal Highway Administration. Effective March 6, 2002.

Staff Assistant to the Administrator, Federal Highway Administration. Effective March 13, 2002.

Special Assistant to the Under Secretary for Transportation Security. Effective March 25, 2002.

Scheduling/Advance Assistant to the Director for Scheduling and Advance. Effective March 25, 2002.

Department of the Treasury

Special Assistant for Advance to the Director, Scheduling. Effective March 6, 2002.

Environmental Protection Agency

Director, Office of Regional Operations to the Associate

Administrator for Congressional and Intergovernmental Relations. Effective March 7, 2002.

Senior Advisor to the Assistant Administrator for International Activities. Effective March 7, 2002.

Special Assistant to the Associate Administrator for the Office of Communications, Education and Media Relations. Effective March 7, 2002.

Associate Regional Administrator to the Regional Administrator, Middle Atlantic Region. Effective March 7, 2002.

Recycling Communications Advisor to the Deputy Director, Office of Solid Waste and Emergency Response. Effective March 11, 2002.

Policy Analyst to the Assistant Administrator, Office of Air and Radiation. Effective March 11, 2002.

Program Assistant to the Assistant Administrator for Air and Radiation. Effective March 28, 2002.

Federal Communications Commission

Deputy Director to the Director, Office of Legislative and Intergovernmental Affairs. Effective March 1, 2002.

Senior Advisor to the Director, Office of Legislative and Intergovernmental Affairs. Effective March 1, 2002.

Federal Emergency Management Agency

Staff Assistant (Scheduling) to the Director. Effective March 12, 2002.

Special Assistant to the Director, Human Resources Division. Effective March 27, 2002.

General Services Administration

Director of External Affairs to the Associate Administrator for Communications. Effective March 5, 2002.

Deputy Associate Administrator for Communications to the Associate Administrator for Communications. Effective March 7, 2002.

Confidential Assistant to the Administrator. Effective March 19, 2002.

International Boundary and Water Commission, United States and Mexico

Confidential Assistant to the Commissioner, International Boundary and Water Commission, United States and Mexico. Effective March 22, 2002.

National Aeronautics and Space Administration

Writer-Editor to the Assistant Administrator for Public Affairs. Effective March 4, 2002.

Special Assistant to the Assistant Administrator for Legislative Affairs. Effective March 5, 2002.

Senior Policy Analyst to the Assistant Administrator for Public Affairs. Effective March 7, 2002.

Industrial Relations Specialist to the Assistant Administrator for External Affairs. Effective March 27, 2002.

Media Relations Specialist to the Assistant Administrator for Public Affairs. Effective March 27, 2002.

National Endowment for the Arts

Special Assistant to the Chairman of the National Endowment for the Arts. Effective March 19, 2002.

National Transportation Safety Board

Director of Government and Industry Affairs to the Chairman. Effective March 12, 2002.

Executive Assistant to the Chairman. Effective March 29, 2002.

Office of Management and Budget

Legislative Assistant to the Associate Director for Legislative Affairs. Effective March 13, 2002.

Office of National Drug Control Policy

Legislative Analyst to the Director, Office of Legislative Affairs. Effective March 18, 2002.

Special Assistant to the Director, Office of National Drug Control Policy. Effective March 27, 2002.

Confidential Counsel to the Director, Office of National Drug Control Policy. Effective March 27, 2002.

Office of Personnel Management

Special Assistant to the Deputy Director. Effective March 13, 2002.

Office of the United States Trade Representative

Special Textile Negotiator to the United States Trade Representative. Effective March 25, 2002.

Overseas Private Investment Corporation

Confidential Assistant to the Chief of Staff. Effective March 29, 2002.

President's Commission on White House Fellowships

Education Director to the Executive Director, President's Commission of White House Fellowships. Effective March 19, 2002.

Selective Service System

Special Assistant to the Director of Selective Service. Effective March 27, 2002.

United States Tax Court

Secretary (Confidential Assistant) to the Judge. Effective March 26, 2002.

Authority: 5 U.S.C. 3301 and 3302; E.O. 10577, 3 CFR 1954-1958 Comp., P.218

Office of Personnel Management.
Kay Coles James,
Director.

[FR Doc. 02-9956 Filed 4-23-02; 8:45 am]

BILLING CODE 6325-01-P